DEPARTMENT OF TRANSPORTATION

Federal Aviation Administration

14 CFR Part 91

[Docket No. FAA-2004-19947; Amendment No. 91-285]

RIN 2120-AI42

Pyrotechnic Signaling Device Requirements

AGENCY: Federal Aviation Administration (FAA), DOT.

ACTION: Disposition of comments on direct final rule.

SUMMARY: On December 27, 2004, the FAA published a direct final rule to remove the requirement for a pyrotechnic signaling device required for aircraft operated for hire over water and beyond power off gliding distance from shore for air carriers operating under part 121 unless it is a part of a required life raft. All other operators continue to be required to have onboard one pyrotechnic signaling device if they operate aircraft for hire over water and beyond power off gliding distance from shore. The rule was effective February 7, 2005.

ADDRESSES: The complete docket for the final rule on pyrotechnic signaling devices may be examined through the Department of Transportation's Docket Management System at http://www.dms.dot.gov. Use the Simple Search selection and type in the docket number, 19947.

FOR FURTHER INFORMATION CONTACT: Joe Keenan, AFS-200, Air Transportation Division, Flight Standards Service, Federal Aviation Administration, 800 Independence Avenue SW., Washington, DC 20591, telephone (202) 267-9579.

SUPPLEMENTARY INFORMATION:

Background

The final rule, request for comment, was published in response to several requests that the FAA eliminate the requirement that aircraft that operate for hire, over water, and beyond power off gliding distance from shore, carry one pyrotechnic signaling device in addition to those signaling devices required as part of each required life raft. The FAA considered petitioners arguments that the requirement of an additional pyrotechnic device, or flare gun, was unnecessary because other requirements, such as air traffic control, dispatch/flight following systems, and advanced communications provide an equivalent, if not greater, level of safety as that provided by the pyrotechnic signaling device. This requirement was limited to those operators conducting operations under Part 121 because all of the additional safety redundancies, such as dispatch/flight following, do not exist to the same extent in other operations.

Discussion of Comments

The FAA received seven comments on the pyrotechnic signaling device final rule. Three were from individuals, three were from air carriers (Southwest Airlines, American Airlines, and Net Jets), and one was from a trade association (the Regional Airline Association). Most comments favor the change. One individual commenter did not reflect support or opposition to the change. None of the comments reflect an adverse position to this final rule. The FAA's response to the comments follows:

Safety

All but one commenter expressed concerns about the safety and security of pyrotechnic signaling devices. One individual commenter stated that the devices were a high-pilferage item and pose a hazard of becoming a potential terrorist weapon. Another individual commenter expressed a general concern about a security hazard to the flight crew. Southwest Airlines and Net Jets inferred that pyrotechnic signaling devices are lethal weapons and constitute hazardous materials on the flight deck.

Three commenters, including American Airlines, inferred that these devices do not enhance safety. Southwest Airlines stated that the device would provide minimal value in locating an aircraft following a ditching at sea, assuming that a pilot could find it.

The FAA does not agree that pyrotechnic signaling devices are unsafe if stored and maintained in accordance with the manufacturer's instructions and personnel are properly trained in their use. Pyrotechnic signaling devices are still required whenever life rafts are required to be onboard. The FAA does not agree that a pyrotechnic signaling device might be hard to locate in a ditching emergency. FAA regulations require a passenger briefing composed of instructions to use in preparation for a ditching. Part of this preparation includes use of emergency equipment, including life rafts and associated equipment (such as pyrotechnic signaling devices), before the actual ditching occurs. Crewmembers are required to be trained in the proper use of emergency equipment. Moreover, when pyrotechnic signaling devices are required as part of a life raft's survival equipment, they are generally inaccessible without removing the raft itself. In cases where the life raft's survival kit is stored separately from the raft, locations are typically not readily available for passenger access until actually needed.

Part 135 Relief

An individual commenter, Net Jets, and the Regional Airline Association stated they are in favor of including relief for part 135 operations. An individual commenter stated that all of the justification for part 121 operations is true for part 135 operations, as well. Net Jets stated that similarly situated part 135 operators should be provided with the same relief as part 121 operators, and noted the similarities between part 121 dispatch/flight following systems and the flight locating requirements of part 135. Net Jets also stated that the Part 125/135 Aviation Rulemaking Committee (ARC) is addressing the issue as it applies to part 135 operations. Net Jets stated that a complete power loss of a part 25 certificated turbojet airplane is extremely low.

Although the requirements differ, the FAA agrees that similarities may exist between part 121 flight following requirements and part 135 flight locating requirements. Also, while some 135 operators conduct operations very similar to part 121 operators, many do not so it would not be appropriate to provide the same blanket relief to all 135 operators. However, if a particular part 135 operator's flight locating system meets all of the requirements of a part 121 flight following system, relief provided in this rule change may be sought by that operator and evaluated by the FAA through the exemption process.

The FAA agrees that complete engine failure of a part 25-certificated airplane is extremely low. However, engine failure is not the only precursor to a forced ditching. Onboard fires, flight control malfunctions, and fuel exhaustion have also resulted in ditching incidents.

The FAA looks forward to receiving recommendations from the Part 125/135 ARC when they are complete.

Pyrotechnic Signaling Devices Required as Part of a Life Raft

An individual commenter stated that the rule should contain a requirement for positive proof that a pyrotechnic device required as part of a life raft is, in fact, onboard and goes on to question how an operator would determine that the device is installed in the life raft.

It is incumbent upon an operator to demonstrate compliance with any applicable requirements for a particular operation. For example, an operator may maintain an inventory of life raft-related equipment to satisfy this requirement when the equipment must be carried onboard for over-water operations.

Conclusion

After consideration of the comments submitted in response to the final rule, the FAA has determined that no further rulemaking action is necessary. Amendment 91-285 remains in effect as adopted.

Issued in Washington, DC, on April 21, 2005.
Marion C. Blakey,
Administrator.

[FR Doc. 05-8453 Filed 4-26-05; 8:45 am]

BILLING CODE 4910-13-P